NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from February 14, 2008 to February 27, 2008. The last biweekly notice was published on February 26, 2008 (73 FR 10293).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html.Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, et al., Docket No. 50-219, Oyster Creek Nuclear Generating Station (Oyster Creek), Ocean County, New Jersey

Date of amendment request: May 16, 2007.

Description of amendment request: The proposed amendment would revise the Oyster Creek Technical Specification (TS) 3.5.A.6, “Primary Containment.” Specifically, the proposed change would revise the actions taken and applicability of the requirement to inert the primary containment atmosphere to less than 4 percent oxygen (O 2) concentration. Currently, the primary containment atmosphere must be inert within 24 hours of placing the reactor mode switch in the run mode and may be de-inerted 24 hours prior to a scheduled shutdown. The proposed revision would require the primary containment atmosphere to be inert within 24 hours after reaching 15 percent of rated thermal power and would allow the atmosphere to be de-inerted 24 hours prior to reducing power below 15 percent rated thermal power. Additionally, the proposed revision would introduce definitions for thermal power and rated thermal power, including changes for their consistent use within the TSs.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify the Technical Specifications (TS) by adding definitions of Rated Thermal Power (RTP) and Thermal Power to TS and adopting containment inerting and de-inerting requirements that are consistent with the guidance of NUREG-1433, “Standard Technical Specifications—General Electric Plants, BWR/4” (STS), Revision 3.1. Additionally, various TS and TS Bases pages are being revised to capitalize THERMAL POWER and RATED THERMAL POWER, to maintain consistency with typical TS format. The proposed changes will [require] inerting of the primary containment within 24 hours of exceeding 15% (RTP) during a plant startup, and [allow] de-inerting 24 hours prior to reducing thermal power to less than 15% RTP during a plant shutdown. Also, a new TS condition will be added to identify required actions if the primary containment oxygen concentration increases to greater than or equal to four volume percent while in the RUN MODE. The proposed changes do not alter the physical configuration of the plant, nor do they affect any previously analyzed accident initiators. The [Loss of Coolant Accident (LOCA)] analysis assumes that a [LOCA] occurs at 100% power. The consequences of a LOCA at less than 15% RTP would be much less severe, and produce less hydrogen than a LOCA at 100% power.

Therefore, the proposed changes do not involve a significant increase in the probability or consequences of an accident previously evaluated.

2. Does the proposed amendment create the possibility of a new or different kind of accident from any accident previously evaluated?

Response: No.

The proposed changes add definitions of [RTP] and Thermal Power to TS and adopt the STS guidance regarding containment inerting/de-inerting requirements. Additionally, various TS and TS Bases pages are being revised to capitalize THERMAL POWER and RATED THERMAL POWER, to maintain consistency with typical TS format. The proposed changes introduce no new mode of plant operation and they do not involve any physical modification to the plant. The proposed changes [remain bounded by] the current [LOCA] analysis assumptions. No setpoints are being changed which would alter the dynamic response of plant equipment. Accordingly, no new failure modes are introduced.

Therefore, the proposed changes do not create the possibility of a new or different kind of accident from any accident previously evaluated.

3. Does the proposed amendment involve a significant reduction in a margin of safety?

Response: No.

The proposed changes add definitions of [RTP] and Thermal Power to TS and adopt the [NUREG-1433, “Standard Technical Specifications—General Electric Plants, BWR/4, Revision 3.1, December 1, 2005] guidance regarding containment inerting/de-inerting requirements. Additionally, various TS and TS Bases pages are being revised to capitalize THERMAL POWER and RATED THERMAL POWER, to maintain consistency with typical TS format. Adoption of the STS reference point operating condition of 15% RTP adds operational flexibility related to the performance of inspections and maintenance inside primary containment during plant startup and shutdown. Making the 24-hour time period contingent upon core thermal power, rather than reactor mode switch position during a plant startup, will enable placing the mode switch in the RUN position sooner. The proposed changes do not [invalidate] any assumptions or conclusions contained in the plant safety analyses, which assume that a LOCA occurs at 100% power. The current Limiting Condition for Operation action requirement and shutdown reference condition for de-inerting involve a complete reactor shutdown. Changing this requirement to 15% RTP, avoids the potential for an unnecessary plant transient.

Therefore, the proposed changes do not involve a significant reduction in any margin of safety.

The NRC staff has reviewed the licensee's analysis and, based on this review, and with the changes noted above, it appears that the three standards of 10 CFR 50.92(c) are satisfied. Therefore, the NRC staff proposes to determine that the amendment request involves no significant hazards consideration.

Attorney for licensee: Thomas S. O'Neill, Associate General Counsel, Exelon Generation Company, LLC, 4300 Winfield Road, Warrenville, IL 60555.

NRC Branch Chief: Harold K. Chernoff.

Entergy Gulf States Louisiana, LLC, and Entergy Operations, Inc., Docket No. 50-458, River Bend Station, Unit 1, West Feliciana Parish, Louisiana

Date of amendment request: January 25, 2008.

Description of amendment request: The proposed changes will revise the Technical Specifications (TS) 3.7.5, “Main Turbine Bypass System,” for River Bend Station, Unit 1 (RBS), allowing the reactor operating limits to be modified, as specified in the RBS, Core Operating Limits Report (COLR), to compensate for the inoperability of the Main Turbine Bypass System (MTBS). The changes will provide an alternative to the existing Limiting Condition for Operation (LCO) for the MTBS. The revised TS will require that either the MTBS be OPERABLE or that the Average Planar Linear Heat Generation Rate (APLHGR), Minimum Critical Power Ratio (MCPR), and Linear Heat Generation Rate and limits for the inoperable MTBS be placed in effect as specified in the COLR.

Basis for proposed no significant hazards consideration determination: As required by 10 CFR 50.91(a), the licensee has provided its analysis of the issue of no significant hazards consideration, which is presented below:

1. Does the proposed change involve a significant increase in the probability or consequences of an accident previously evaluated?

Response: No.

The Main Turbine Bypass System (MTBS) functions to limit reactor pressure and power increases during certain transients postulated in the accident analysis. The MTBS is a mitigation function and not the initiator of any evaluated accident or transient. Operation with inoperable MTBS and compliance with the revised set of Minimum Critical Power Ratio (MCPR), Average Planar Linear Heat Generation Rate (APLHGR) and Linear Heat Generation Rate (LHGR) operating limits will offset the impact of losing the MTBS function.

Therefore, the proposed change does not involve a significant increase in the probability or consequences of an accident previously evaluated.

2. Does the proposed change create the possibility of a new or different kind of accident from any accident previously evaluated?

Response: No.

The proposed change will not create any new modes of plant or equipment operation. The proposed change allows the option to apply an additional penalty factor to the MCPR, APLHGR, and LHGR when the MTBS is inoperable. With the revised set of operating limits will offset the impact of losing the MTBS function, the margin to the MCPR SL and the thermal mechanical design limits are maintained. Therefore, the proposed change does not create the possibility of a new or different kind of accident from any previously evaluated.

3. Does the proposed change involve a significant reduction in a margin of safety?

Response: No. E>P>By establishing new restrictive APLHGR, MCPR, and LHGR operating limits, there are no changes to the plant design and safety analysis. There are no changes to the reactor core design instrument setpoints. The margin of safety assumed in the safety analysis is not affected. Applicable regulatory requirements will continue to be met and adequate defense-in-depth will be maintained. Sufficient safety margins will be maintained.

The analytical methods used to determine the revised core operating limits were reviewed and approved by the NRC, and are described in Technical Specification 5.6.5.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Terence A. Burke, Associate General Council—Nuclear Entergy Services, Inc., 1340 Echelon Parkway, Jackson, Mississippi 39213.

NRC Branch Chief: Thomas G. Hiltz.

Entergy Nuclear Vermont Yankee, LLC and Entergy Nuclear Operations, Inc., Docket No. 50-271, Vermont Yankee Nuclear Power Station, Vernon, Vermont

Date of amendment request: February 6, 2008.

Description of amendment request: The proposed amendment would revise the Surveillance Requirements (SRs) for control rod exercising from weekly to monthly in Technical Specification (TS) 4.3.A.2, revise verification of control rod coupling integrity as described in TS 4.3.B.1, revise the scram insertion time Limiting Conditions for Operation (LCO) and SRs as described in TS 3.3.C and 4.3.C, and enhance TS 3.3.D and 4.3.D, the LCO and SR for Control Rod Accumulators.

Basis for proposed no significant hazards consideration determination: As required by 10 CFR 50.91(a), the licensee has provided its analysis of the issue of no significant hazards consideration which is presented below:

1. The operation of Vermont Yankee Nuclear Power Station in accordance with the proposed amendment will not involve a significant increase in the probability or consequences of an accident previously evaluated.

The proposed changes do not significantly affect the design or fundamental operation and maintenance of the plant. Accident initiators or the frequency of analyzed accident events are not significantly affected as a result of the proposed changes; therefore, there will be no significant change to the probabilities of accidents previously evaluated.

The proposed changes do not significantly alter assumptions or initial conditions relative to the mitigation of an accident previously evaluated. The proposed changes continue to ensure process variables, structures, systems, and components (SSCs) are maintained consistent with the safety analyses and licensing basis. The revised Technical Specifications continue to require that SSCs are properly maintained to ensure operability and performance of safety functions as assumed in the safety analyses. The design basis events analyzed in the safety analyses will not change significantly as a result of the proposed changes to the TS.

Therefore, the proposed changes do not involve a significant increase in the probability or consequences of an accident previously evaluated.

2. The operation of Vermont Yankee Nuclear Power Station in accordance with the proposed amendment will not create the possibility of a new or different kind of accident from any accident previously evaluated.

The proposed changes do not involve any physical alteration of the plant (no new or different type of equipment being installed) and do not involve a change in the design, normal configuration or basic operation of the plant. The proposed changes do not introduce any new accident initiators. In some cases, the proposed changes impose different requirements; however, these new requirements are consistent with the assumptions in the safety analyses. Where requirements are relocated to other licensee-controlled documents, adequate controls exist to ensure their proper maintenance.

The proposed changes do not involve significant changes in the fundamental methods governing normal plant operation and do not require unusual or uncommon operator actions. The proposed changes provide assurance that the plant will not be operated in a mode or condition that violates the essential assumptions or initial conditions in the safety analyses and that SSCs remain capable of performing their intended safety functions as assumed in the same analyses. Consequently, the response of the plant and the plant operator to postulated events will not be significantly different.

Therefore, the proposed TS change does not create the possibility of a new or different kind of accident from any previously evaluated.

3. The operation of Vermont Yankee Nuclear Power Station in accordance with the proposed amendment will not involve a significant reduction in a margin of safety.

Margin of safety is related to the confidence in the ability of the fission product barriers to perform their design functions during and following an accident situation. The proposed changes do not significantly affect any of the assumptions, initial conditions or inputs to the safety analyses. Plant design is unaffected by these proposed changes and will continue to provide adequate defense-in-depth and diversity of safety functions as assumed in the safety analyses.

There are no proposed changes to any of the Safety Limits or Limiting Safety System Setting requirements. The proposed changes maintain requirements consistent with safety analyses assumptions and the licensing basis. Fission product barriers will continue to meet their design capabilities without any significant impact to their ability to maintain parameters within acceptable limits. The safety functions are maintained within acceptable limits without any significant decrease in capability.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 400 Hamilton Avenue, White Plains, NY 10601.

NRC Branch Chief: Mark G. Kowal.

Florida Power and Light Company, et al., Docket No. 50-389, St. Lucie Plant, Unit No. 2, St. Lucie County, Florida

Date of amendment request: January 23, 2008.

Description of amendment request: Replace the current St. Lucie Unit 2 Technical Specification pressure-temperature (P/T) limit curves with new P/T limit curves applicable to 55 effective full-power years (EFPY). The low-temperature overpressure protection (LTOP) requirements, which are based on the P/T limits, will also be applicable to 55 EFPY.

Basis for proposed no significant hazards consideration determination: As required by 10 CFR 50.91(a), the licensee has provided its analysis of the issue of no significant hazards consideration, which is presented below:

(1) Operation of the facility in accordance with the proposed amendment would not involve a significant increase in the probability or consequences of an accident previously evaluated.

The proposed changes have been determined in accordance with the methodologies set forth in the regulations to provide an adequate margin of safety to ensure that the reactor vessel will withstand the effects of normal startup and shutdown cyclic loads due to system temperature and pressure changes as well as the loads associated with reactor trips. The regulations of 10 CFR part 50 Appendix A, Design Criterion 14 and Design Criterion 31 remains satisfied. The pressure-temperature (P/T) limit curves in the Technical Specifications are conservatively generated in accordance with the fracture toughness requirements of the ASME Code [American Society of American Engineers Boiler and Pressure Vessel Code] Section XI, Appendix G. The margins of safety against fracture provided by the P/T limits using the requirements of 10 CFR 50 Appendix G are equivalent to those recommended in ASME Section XI, Appendix G. The Adjusted Reference Temperature (ART) values are based on the guidance of RG [Regulatory Guide] 1.99 [Reference 4].

The proposed changes will not result in physical changes to structures, systems or components [(]SSCs[)] or to event initiators or precursors. Changing the heatup and cooldown curves and the pressure relief setpoints to reflect 55 EFPY does not affect the ability to control the RCS at low[-]temperatures such that the integrity of the reactor coolant pressure boundary would not be compromised by violating the P/T limits.

The proposed changes will not impact assumptions and conditions previously used in the radiological consequence evaluations nor affect mitigation of these consequences due to an accident described in the UFSAR [Updated Final Safety Analysis Report]. Also, the proposed changes will not impact a plant system such that previously analyzed SSCs might be more likely to fail. The initiating conditions and assumptions for accidents described in the UFSAR remain as analyzed.

Thus, based on the above, reasonable assurance is provided that the proposed amendment does not significantly increase the probability or consequences of accidents previously evaluated.

(2) Operation of the facility in accordance with the proposed amendment would not create the possibility of a new or different kind of accident from any accident previously evaluated.

The requirements for P/T limit curves and LTOP have been in place since the beginning of plant operation. The revised curves are based on a later edition of Section XI of the ASME Code that incorporates current industry standards for P/T curves. The revised curves also are based on reactor vessel irradiation damage predictions using RG 1.99 methodology. No new failure modes are identified nor are any SSCs required to be operated outside of their design bases. Consequently, the proposed amendment does not create the possibility of a new or different kind of accident from any accident previously evaluated.

(3) Operation of the facility in accordance with the proposed amendment would not involve a significant reduction in a margin of safety.

The proposed P/T curves continue to maintain the safety margins of 10 CFR 50 Appendix G by defining the limits of operation which prevent nonductile failure of the reactor pressure vessel. Analyses have demonstrated that the fracture toughness requirements are satisfied and that conservative operating restrictions are maintained for the purpose of low[-]temperature overpressure protection. The P/T limit curves provide assurance that the RCS [reactor coolant system] pressure boundary will behave in a ductile manner and that the probability of a rapidly propagating fracture is minimized. Therefore, operation in accordance with the proposed amendment would not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Branch Chief: Thomas H. Boyce.

Nuclear Management Company, LLC, Docket No. 50-263, Monticello Nuclear Generating Plant, Wright County, Minnesota

Date of amendment request: February 6, 2008.

Description of amendment request: The proposed amendment would revise the Technical Specifications (TSs) in conjunction with the replacement of the analog power range neutron monitoring (PRNM) system with a more reliable digital upgrade, the General Electric—Hitachi Nuclear Measurement Analysis and Control (NUMAC) digital system. This upgrade also includes an oscillation power range monitor capability, which implements a detect-and-suppress long-term stability solution methodology. This upgrade will also simplify the management and maintenance of the PRNM. As a result of this design change, TS 3.3.1.1, “Reactor Protection System (RPS) Instrumentation;” TS 3.3.2.1, “Control Rod Block Instrumentation;” TS 3.4.1, “Recirculation Loops Operating;” and TS 5.6.3, “Core Operating Limits Report (COLR)” will be revised.

Basis for proposed no significant hazards consideration determination: As required by Title 10 of the Code of Federal Regulations (10 CFR) Part 50.91(a), the licensee has provided its analysis of the issue of no significant hazards consideration (NSHC). The NRC staff reviewed the licensee’s analysis, and has performed its own analysis as follows:

(1) Does the proposed amendment involve a significant increase in the probability or consequences of an accident previously evaluated?

No. The proposed amendment will upgrade the existing PRNM system from analog to digital, and revise Technical Specification requirements associated with the PRNM system. The PRNM system will continue to perform its design functions after the upgrade and TS changes under all conditions of operation for which the PRNM system was designed; thus, there is no decrease in the functionality of the PRNM system. The upgrade from analog to digital is expected to improve reliability of the system. Whether the PRNM system is analog or digital does not have an impact on precursors leading to previously evaluated accidents; therefore, the proposed amendment does not increase the probability of a previously evaluated accident. The upgraded PRNM system will continue to carry out the PRNM design functions; therefore, the plant systems required to mitigate accidents will not be negatively affected by the upgrade of the PRNM system, and will remain capable of performing their accident-mitigating functions. As a result, the proposed amendment will not lead to a significant change in the consequences of any accident previously evaluated.

(2) Does the proposed amendment create the possibility of a new or different kind of accident from any accident previously evaluated?

No. The proposed amendment would only upgrade the PRNM system from analog to digital, and revise associated Technical Specification requirements. The PRNM system was not determined to be a precursor of previously evaluated accidents. Its conversion from analog to digital would not change this status. Furthermore, other than the PRNM system, there will not be any physical alteration of any system, structure, or component (SSC) or change in the way any SSC is operated. The proposed amendment does not involve operation of any SSCs in a manner or configuration different from those previously recognized or evaluated. No new failure mechanisms will be introduced by the upgraded PRNM system and associated requirements. Thus, the proposed amendment does not create the possibility of a new or different kind of accident from any accident previously evaluated.

(3) Does the proposed amendment involve a significant reduction in a margin of safety?

No. The proposed amendment does not involve lowering any acceptance standard for the PRNM system. Also, there will be no relaxation of any limiting condition for operation, relaxation of assumptions for previously evaluated accidents, or relaxation of methodology used to evaluate consequences of accidents. Therefore, the proposed amendment does not involve a significant reduction in a margin of safety.

The NRC staff has reviewed the licensee's analysis and, based on the NRC staff's own analysis above, it appears that the three standards of 10 CFR 50.92(c) are satisfied. Therefore, the NRC staff proposes to determine that the proposed amendment involves no significant hazards consideration.

Attorney for licensee: Peter M. Glass, Assistant General Counsel, Xcel Energy Services, Inc., 414 Nicollet Mall, Minneapolis, MN 55401.

NRC Acting Branch Chief: Patrick Milano.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Carolina Power & Light Company, Docket Nos. 50-325 and 50-324, Brunswick Steam Electric Plant, Units 1 and 2, Brunswick County, North Carolina

Date of application for amendments: August 6, 2007.

Brief Description of amendments: The amendments revise Technical Specification 5.5.12, “Primary Containment Leakage Rate Testing Program,” to allow the required visual inspections to be performed in accordance with the American Society of Mechanical Engineers Boiler and Pressure Vessel Code, Section XI, Subsections IWL and IWE.

Date of issuance: February 8, 2008.

Effective date: Date of issuance, to be implemented within 60 days.

Amendment Nos.: 245 and 273.

Facility Operating License Nos. DPR-71 and DPR-62: Amendments change the Technical Specifications.

Date of initial notice in Federal Register: December 4, 2007 (72 FR 68208). The Commission's related evaluation of the amendments is contained in a Safety Evaluation dated February 8, 2008.

No significant hazards consideration comments received: No.

Duke Power Company LLC, Docket No. 50-369, McGuire Nuclear Station, Unit 1, Mecklenburg County, North Carolina

Date of application for amendments: February 21, 2007, as supplemented August 9, 2007.

Brief description of amendments: The amendment revised administrative TS 5.5.2, “Containment Leak Rate Testing Program,” from the currently approved 15-year interval (since the last McGuire Unit 1 Type A test) to a frequency encompassing the end of the McGuire Unit 1 End of Cycle (EOC) 19 refueling outage (approximately 6 months beyond the present frequency).

Date of issuance: February 13, 2008.

Effective date: As of the date of issuance and shall be implemented within 30 days from the date of issuance.

Amendment No.: 244.

Renewed Facility Operating License No. NPF-9: Amendments revised the license and the technical specifications.

Date of initial notice in Federal Register: December 31, 2007 (72 FR 74357) The Commission's related evaluation of the amendments is contained in a Safety Evaluation dated February 13, 2008.

No significant hazards consideration comments received: No.

Duke Power Company LLC, Docket Nos. 50-269, 50-270, and 50-287, Oconee Nuclear Station, Units 1, 2, and 3, Oconee County, South Carolina

Date of application of amendments: June 1, 2006, supplemented by letters dated March 14, October 8, and October 30, 2007.

Brief description of amendments: The amendments authorized revisions of the Updated Final Safety Analysis Report to incorporate the use of fiber-reinforced polymer system that will be used to strengthen certain masonry walls to withstand the pressure loads from a tornado.

Date of Issuance: February 21, 2008.

Effective date: As of the date of issuance and shall be implemented within 30 days from the date of issuance.

Amendment Nos.: 360, 362, and 361.

Renewed Facility Operating License Nos. DPR-38, DPR-47, and DPR-55: Amendments revised the licenses and the technical specifications.

Date of initial notice in Federal Register: July 18, 2006 (71 FR 40745). The supplements dated March 14, October 8, and October 30, 2007, provided additional information that clarified the application, did not expand the scope of the application as originally noticed, and did not change the staff's original proposed no significant hazards consideration determination. The Commission's related evaluation of the amendments is contained in a Safety Evaluation dated February 21, 2008.

No significant hazards consideration comments received: No.

Entergy Nuclear Operations, Inc., Docket No. 50-255, Palisades Plant, Van Buren County, Michigan

Date of application for amendment: August 21, 2007.

Brief description of amendment: The amendment revised the Technical Specifications (TS) to adopt TS Task Force (TSTF) change traveler TSTF-448, Revision 3, “Control Room Habitability.”

Date of issuance: February 20, 2008.

Effective date: As of the date of issuance and shall be implemented within 120 days.

Amendment No.: 230.

Facility Operating License No. DPR-20. Amendment renewed the Technical Specifications and Facility Operating License.

Date of initial notice in Federal Register: November 6, 2007 (72 FR 62687). The Commission's related evaluation of the amendment is contained in a Safety Evaluation dated February 20, 2008.

No significant hazards consideration comments received: No.

Exelon Generation Company, LLC, Docket Nos. 50-352 and 50-353, Limerick Generating Station, Units 1 and 2, Montgomery County, Pennsylvania

Date of application for amendment: February 20, 2007, as supplemented by letters dated September 14, 2007, October 18, 2007 and December 20, 2007.

Brief description of amendment: The amendments consist of changes to the Technical Specifications for each unit to allow a deferral of the next required Type A, containment integrated leak rate test to May 15, 2013 (Unit 1) and to May 21, 2014 (Unit 2). The changes reflect an extension of the test interval for each unit from 10 to 15 years.

Date of issuance: February 20, 2008

Effective date: As of the date of issuance and shall be implemented within 60 days of issuance.

Amendment Nos.: 190 and 151

Facility Operating License Nos. NPF-39 and NPF-85. This amendment revised the license and the technical specifications.

Date of initial notice in Federal Register: August 14, 2007 (72 FR 45456). The supplements dated September 14, 2007, October 18, 2007 and December 20, 2007, provided additional information that clarified the application, did not expand the scope of the application as originally noticed and did not change the NRC staff's original proposed no significant hazards determination. The Commission's related evaluation of the amendment is contained in a Safety Evaluation dated February 20, 2008.

No significant hazards consideration comments received: No.

FirstEnergy Nuclear Operating Company, et al., Docket Nos. 50-334 and 50-412 Beaver Valley Power Station, Unit Nos. 1 and 2, Beaver County, Pennsylvania

Date of application for amendment: August 30, 2007.

Brief description of amendment: The amendments will modify Technical Specification (TS) requirements related to control room envelope habitability in TS 3.7.10, “Control Room Emergency Ventilation System (CREVS)” and TS Section 5.5, “Administrative Controls—Programs and Manuals.” The changes are consistent with Nuclear Regulatory Commission (NRC) approved Industry/Technical Specification Task Force (TSTF) Traveler TSTF-448, Revision 3. The availability of this TS improvement was published in the Federal Register on January 17, 2007 (72 FR 2022), as part of the consolidated line item improvement process.

Date of issuance: February 15, 2008.

Effective date: As of the date of issuance, and shall be implemented within 120 days from the date of issuance.

Amendment No.: 281 and 163.

Facility Operating License Nos. DPR-66 and NPF-73: The amendments revised the License and T.

Date of initial notice in Federal Register: November 20, 2007 (72 FR 65365).

The Commission's related evaluation of the amendment is contained in a Safety Evaluation dated February 15, 2008.

No significant hazards consideration comment.

Florida Power and Light Company, et al., Docket Nos. 50-335 and 50-389, St. Lucie Plant, Unit Nos. 1 and 2, St. Lucie County, Florida

Date of application for amendments: June 4, 2007.

Brief description of amendments: The amendments removed Technical Specification (TS) requirements related to hydrogen recombiners and hydrogen monitors as part of the consolidated line item improvement process.

Date of Issuance: February 22, 2008.

Effective Date: As of the date of issuance and shall be implemented within 60 days of issuance.

Amendment Nos.: 204 and 151.

Renewed Facility Operating License Nos. DPR-67 and NPF-16: Amendments revised the TSs.

Date of initial notice in Federal Register: August 14, 2007 (72 FR 45457).

The Commission's related evaluation of the amendments is contained in a Safety Evaluation dated February 22, 2008.

No significant hazards consideration comments received: No.

FPL Energy, Point Beach, LLC, Docket Nos. 50-266 and 50-301, Point Beach Nuclear Plant, Units 1 and 2, Town of Two Creeks, Manitowoc County, Wisconsin

Date of application for amendments: July 12, 2007, as supplemented by letter dated October 8, 2007.

Brief description of amendments: The proposed amendment would revise Technical Specification 3.6.3, “Containment Isolation Valves.” The revision would delete Surveillance Requirement 3.6.3.1, which is no longer required due to the containment purge supply and exhaust valve isolation function being replaced with blind flanges. The proposed amendment would also support a change to the Final Safety Analysis Report to revise the requirement to leak check the purge supply and exhaust valves.

Date of issuance: February 19, 2008.

Effective date: As of the date of issuance and shall be implemented within 30 days.

Amendment Nos.: 231 and 236.

Renewed Facility Operating License Nos. DPR-24 and DPR-27: Amendments revised the Technical Specifications/License.

Date of initial notice in Federal Register: August 28, 2007 (72 FR 49580). The October 8, 2007 supplement, contained clarifying information and did not change the staff's initial proposed finding of no significant hazards consideration.

The Commission's related evaluation of the amendments is contained in a Safety Evaluation dated February 19, 2008.

No significant hazards consideration comments received: No.

Nebraska Public Power District, Docket No. 50-298, Cooper Nuclear Station, Nemaha County, Nebraska

Date of amendment request: August 10, 2007, as supplemented by letter dated December 20, 2007.

Brief description of amendment: The amendment revised the Technical Specification 2.1.1.2 values of two recirculation loop and single recirculation loop safety limit minimum critical power ratio to reflect results of a cycle-specific calculation.

Date of issuance: February 14, 2008.

Effective date: As of the date of issuance and shall be implemented within 30 days of issuance.

Amendment No.: 229.

Facility Operating License No. DPR-46: Amendment revised the Facility Operating License and Technical Specifications.

Date of initial notice in Federal Register: September 25, 2007 (72 FR 54475). The supplement dated December 20, 2007, provided additional information that clarified the application, did not expand the scope of the application as originally noticed, and did not change the staff's original proposed no significant hazards consideration determination as published in the Federal Register. The Commission's related evaluation of the amendment is contained in a Safety Evaluation dated February 14, 2008.

No significant hazards consideration comments received: No.

Nine Mile Point Nuclear Station, LLC, Docket No. 50-410, Nine Mile Point Nuclear Station, Unit No. 2 (NMP2), Oswego County, New York

Date of application for amendment: July 30, 2007, as supplemented by letter dated January 3, 2008.

Brief description of amendment: The amendment changes the NMP2 Technical Specifications by changing the testing frequency for drywell spray nozzles specified in Surveillance Requirement 3.6.1.6.3 from “10 years” to “following maintenance that could result in nozzle blockage.”

Date of issuance: February 11, 2008.

Effective date: As of the date of issuance to be implemented within 30 days.

Amendment No.: 122.

Renewed Facility Operating License No. NPF-69: Amendment revises the License and Technical Specifications.

Date of initial notice in Federal Register: September 11, 2007 (72 FR 51864).

The supplement dated January 3, 2008, provided additional information that clarified the application, did not expand the scope of the application as originally noticed, and did not change the Nuclear Regulatory Commission staff's initial proposed no significant hazards consideration determination.

The Commission's related evaluation of the amendment is contained in a Safety Evaluation dated February 11, 2008.

No significant hazards consideration comments received: No

Nuclear Management Company, LLC, Docket Nos. 50-282 and 50-306, Prairie Island Nuclear Generating Plant, Units 1 and 2, Goodhue County, Minnesota

Date of application for amendments: February 28, 2007.

Brief description of amendments: The amendments revise Technical Specification (TS) 5.2.2, “Plant Staff”, and TS 5.3, “Plant Staff Qualifications,” requirements for shift technical advisor qualifications. The proposed changes will specify that personnel who perform the function of shift technical advisor (STA) shall meet the qualification requirements of the Commission Policy Statement on Engineering Expertise on Shift, published in Federal Register 50 FR 43621, October 28, 1985. This change will allow qualified personnel to perform the function of STA without also holding a senior reactor operator (SRO) license.

Date of issuance: February 25, 2008.

Effective date: As of the date of issuance and shall be implemented within 90 days.

Amendment Nos.: 184 and 174.

Facility Operating License Nos. DPR-42 and DPR-60: Amendments revised the Technical Specifications and Facility Operating License.

Date of initial notice in Federal Register: May 8, 2007 (72 FR 26177). The Commission's related evaluation of the amendments is contained in a Safety Evaluation dated February 25, 2008.

No significant hazards consideration comments received: No.

PPL Susquehanna, LLC, Docket No. 50-388, Susquehanna Steam Electric Station, Unit 2 (SSES 2), Luzerne County, Pennsylvania

Date of application for amendment: March 2, 2007, as supplemented on December 5, 2007.

Brief description of amendment: The amendment adds an ACTIONS Note 3 to the SSES 2 Technical Specification (TS) 3.8.1, “AC Sources—Operating,” to allow a Unit 1 4160 volt subsystem to be de-energized and removed from service to perform bus maintenance.

Date of issuance: February 19, 2008.

Effective date: As of the date of issuance and to be implemented within 30 days.

Amendment No.: 225.

Facility Operating License No. NPF-22: The amendments revised the License and TSs.

Date of initial notice in Federal Register: August 14, 2007 (72 FR 45459). The supplement dated December 5, 2007, provided additional information that clarified the application, did not expand the scope of the application as originally noticed, and did not change the staff's original proposed no significant hazards consideration determination.

The Commission's related evaluation of the amendments is contained in a Safety Evaluation dated February 19, 2008.

No significant hazards consideration comments received: No.

PPL Susquehanna, LLC, Docket No. 50-387 and 50-388, Susquehanna Steam Electric Station, Units 1 and 2 (SSES 1 and 2), Luzerne County, Pennsylvania

Date of application for amendments: August 14, 2007, as supplemented on January 24, 2008.

Brief description of amendments: The amendments add a new license condition to the SSES 1 and 2 operating licenses to permit the leakage-boundary and containment isolation valves in Title 10 of the Code of Federal Regulations Part 50, Appendix J leakage test program, to be tested at the constant pressure power uprate (CPPU) peak containment internal pressure (Pa) in accordance with the current scheduled test intervals rather than requiring all of the valves to be tested at the higher Pa prior to the implementation of the CPPU.

Date of issuance: February 20, 2008.

Effective date: As of the date of issuance and to be implemented within 30 days.

Amendment Nos.: 247 and 226.

Facility Operating License Nos. NPF-14 and NPF-22: The amendments revised the License.

Date of initial notice in Federal Register: September 25, 2007 (72 FR 54479). The supplement dated January 24, 2008, provided additional information that clarified the application, did not expand the scope of the application as originally noticed, and did not change the staff's original proposed no significant hazards consideration determination. The Commission's related evaluation of the amendments is contained in a Safety Evaluation dated February 20, 2008.

No significant hazards consideration comments received: No.

PSEG Nuclear LLC, Docket Nos. 50-272 and 50-311, Salem Nuclear Generating Station, Unit Nos. 1 and 2, Salem County, New Jersey

Date of application for amendments: March 16, 2007, as supplemented on August 30, September 14, and November 20, 2007, and January 16, 2008.

Brief description of amendments: The amendments revise the Updated Final Safety Analysis Report (UFSAR) to modify the Salem licensing basis with respect to the response times associated with a steam generator feedwater pump (SGFP) trip and feedwater isolation valve (FIV) closure. The amendments also revise the Technical Specification (TS) requirements for the containment fan cooler unit (CFCU) cooling water flow rate. These changes are associated with a revised containment response analysis that credits an SGFP trip and FIV closure (on a feedwater regulator valve failure) to reduce the mass/energy release to the containment during a main steam line break. The containment analysis also credits a reduced heat removal capability for the CFCUs, allowing a reduction in the required service water flow to the CFCUs.

Date of issuance: February 27, 2008.

Effective date: As of the date of issuance, to be implemented prior to restart from refueling outage 1R19 for Salem Unit 1 and prior to restart from refueling outage 2R16 for Salem Unit 2.

Amendment Nos.: 287 and 270.

Facility Operating License Nos. DPR-70 and DPR-75: The amendments revise the TSs, the license and the UFSAR.

Date of initial notice in Federal Register: April 10, 2007 (72 FR 17951). The letters dated August 30, September 14, and November 20, 2007, and January 16, 2008, provided clarifying information that did not change the initial proposed no significant hazards consideration determination or expand the application beyond the scope of the original Federal Register notice.

The Commission's related evaluation of the amendments is contained in a Safety Evaluation dated February 27, 2008.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of application for amendments: October 18, 2007.

Brief description of amendments: The amendments revised the Technical Specifications for unit staff qualifications and also included a revised position title for “Health Physics Superintendent.”

Date of issuance: February 21, 2008.

Effective date: As of the date of issuance and shall be implemented within 90 days from the date of issuance.

Amendment Nos.: 255 and 199.

Renewed Facility Operating License Nos. DPR-57 and NPF-5: Amendments revised the licenses and the technical specifications.

Date of initial notice in Federal Register: November 20, 2007 (72 FR 65372).

The Commission's related evaluation of the amendments is contained in a Safety Evaluation dated February 21, 2008.

No significant hazards consideration comments received: No.

Dated at Rockville, Maryland, this 29th day of February 2008.
For the Nuclear Regulatory Commission.
John W. Lubinski,
Deputy Director, Division of Operating Reactor Licensing, Office of Nuclear Reactor Regulation.

[FR Doc. E8-4690 Filed 3-10-08; 8:45 am]

BILLING CODE 7590-01-P